NUCLEAR REGULATORY COMMISSION

Agency Information Collection Activities: Submission for the Office of Management and Budget (OMB) Review; Comment Request

AGENCY: Nuclear Regulatory Commission (NRC).

ACTION: Notice of the OMB review of information collection solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: NRC Form 396, “Certification of Medical Examination by Facility Licensee.”

3. Current OMB approval number: 3150-0024.

4. How often the collection is required: Upon application for an initial operator license, every six years for the renewal of operator or senior operator license, and upon notices of disability.

5. Who is required or asked to report: Facility licensees who are tasked with certifying the medical fitness of an applicant or licensee.

6. An estimate of the number of annual responses: 1,287 (1,150 responses + 137 recordkeepers).

7. The number of annual respondents: 137.

8. The number of hours needed annually to complete the requirement or request: 758 (288 hours for reporting [.25 hours per response] and 470 hours for recordkeeping [3.4 hours per recordkeeper]).

9. An indication of whether section 3507(d), Public Law 104-13 applies: Not Applicable.

10. Abstract: NRC Form 396 is used to transmit information to the NRC regarding the medical condition of applicants for initial operator licenses or renewal of operator licenses and for the maintenance of medical records for all licensed operators. The information is used to determine whether the physical condition and general health of applicants for operator licensees is such that the applicant would not be expected to cause operational errors and endanger public health and safety.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by January 17, 2006. Comments received after this date will be considered if it is practical to do so, but assurance of consideration cannot be given to comments received after this date. John A. Asalone, Office of Information and Regulatory Affairs (3150-0024), NEOB-10202, Office of Management and Budget, Washington, DC 20503.

Comments can also be e-mailed to John_A._Asalone@omb.eop.gov or submitted by telephone at (202) 395-4650.

The NRC Clearance Officer is Brenda Jo. Shelton, 301-415-7233.

Dated at Rockville, Maryland, this 10th day of November, 2005.
Brenda Jo. Shelton,
NRC Clearance Officer.

[FR Doc. E5-6367 Filed 11-16-05; 8:45 am]

BILLING CODE 7590-01-P